DEPARTMENT OF DEFENSE

Department of the Army; Corps of Engineers

Intent To Prepare Draft Environmental Impact Statement for the Proposed Implementation of Interim Water Storage Contracts Associated With the Southeastern Federal Power Customers Settlement Agreement, at Lake Sidney Lanier/Buford Dam, GA

AGENCY: Department of the Army, U.S. Army Corps of Engineers, DoD.

ACTION: Notice of intent.

SUMMARY: The U.S. Army Corps of Engineers (Corps), Mobile District, intends to prepare a Draft Environmental Impact Statement (EIS), as required by the National Environmental Policy Act (NEPA), to address the proposed implementation of interim water storage contracts at Lake Sidney Lanier/Buford Dam, GA, as contained in a settlement agreement associated with the Southeastern Federal Power Customers, Inc. (SeFPC) v. Secretary of the Army, et al. (1:00CV02954-TPJ) lawsuit. The Draft EIS will also address any changes in water management operations at the reservoir project, as well as the potential for other changes to operations in downstream reservoir projects, which would result from implementation of the settlement agreement.

FOR FURTHER INFORMATION CONTACT: Questions about this Draft EIS or the NEPA process can be answered by: Ms. Joanne Brandt, Environmental Compliance Manager, Inland Environment Team, U.S. Army Engineer District-Mobile, Post Office Box 2288, Mobile, AL 36628-0001; Telephone (251) 690-3260; or delivered by electronic facsimile at (251) 694-3815; or e-mail: joanne.u.brandt@sam.usace.army.mil. You may also request to be included on the mailing list for public distribution of meeting announcements and documents.

SUPPLEMENTARY INFORMATION: Background. On December 13, 2000, litigation was filed by the SeFPC, Inc. (1:00CV02954-TPJ) in the U.S. District Court for District of Columbia, challenging the validity of Corps actions in connection with water withdrawals from Lake Lanier and alleging the water withdrawals adversely affected hydropower generation. A settlement agreement was reached in the SeFPC litigation which involves a proposal to implement interim water storage contracts at Lake Lanier and prescribed payments by the water supply users for interim storage amounts, and credits for hydropower generation foregone. The Corps has been prohibited from implementing the settlement agreement until recent court decisions removed those prohibitions. In a ruling on January 20, 2006, the U.S. District Court for the District of Columbia granted the SeFPC motion to stay the lawsuit for a sufficient amount of time to allow the Corps to complete the NEPA process for the proposed implementation of the settlement agreement.

Accordingly, the Corps is proceeding to fulfill its obligations under NEPA and to comply with other terms of the settlement agreement. The first step of this compliance process is the initiation of a draft EIS to address the proposed implementation of the settlement agreement. The EIS will address the impacts expected to result from implementation of the settlement agreement together with any operational changes that may be required for its implementation.

Public participation throughout the NEPA process is essential. The Corps invites full public participation to promote open communication and better decision making. All persons, stakeholders, and organizations that have an interest in the water allocation formulas, including minority, low-income, disadvantaged and Native American groups, are urged to participate in this NEPA environmental analysis process. Assistance will be provided upon request to anyone having difficulty with understanding how to participate. Scoping meetings are planned and tentatively scheduled for later this summer. Dates and locations for public scoping meetings will be announced by future publication in the Federal Register and in the local news media. Tentative dates for publication of the draft EIS and other opportunities for public involvement will also be announced at that time. Public comments are welcomed anytime throughout the NEPA process.

Cooperating Agencies. The lead responsibility for this EIS rests with the Corps. The Corps intends to coordinate and/or consult with an interagency team of Federal and State agencies during scoping and preparation of the draft EIS. Each of these agencies will provide their expertise and assistance in compiling information and evaluating potential impacts. However, these agencies will not serve in an official role as cooperating agencies.

Scoping: The Alabama-Coosa-Tallapoosa Rivers (ACT)/Apalachicola-Chattahoochee-Flint Rivers (ACF) Comprehensive Study and ACF Compact negotiations involved the States (Alabama, Florida and Georgia), stakeholders and the public in identifying areas of concern; collecting and developing water resource, environmental, and socioeconomic data; and developing tools to assist in decisions affecting water resources within the two basins. Scoping for this EIS will continue to build upon the knowledge and information developed during the Comprehensive Study and subsequent Compact negotiations. The comments and opinions of various stakeholders will be sought, including Federal, State and local agencies and officials, affected tribes, other interested parties and the public. Scoping meetings with agencies and stakeholder groups will be scheduled to identify any significant issues and data gaps, focus on the alternatives to be evaluated, and to identify any appropriate updated tools to assist in evaluation of alternatives and analysis of impacts.

Environmental Review and Consultation Requirements. Coordination with the U.S. Fish and Wildlife Service will be accomplished in compliance with the Endangered Species Act and the Fish and Wildlife Coordination Act. Coordination required by other laws and regulations will also be conducted.

Dated: June 8, 2006.
Peter F. Taylor,
Colonel, Corps of Engineers, District Engineer.

[FR Doc. 06-5444 Filed 6-15-06; 8:45 am]

BILLING CODE 3410-CR-M